DEPARTMENT OF TRANSPORTATION

Federal Highway Administration

Environmental Impact Statement: Utah and Wasatch Counties, UT

AGENCY: Federal Highway Administration (FHWA), DOT.

ACTION: Amended Notice of Intent.

SUMMARY: The FHWA is issuing this notice to advise the public that an additional component, a recreational trail, will be added and the termini changed for the supplement to a final environmental impact statement being prepared for a proposed highway project in Utah and Wasatch Counties, Utah.

FOR FURTHER INFORMATION CONTACT: William R. Gedris, Environmental Coordinator, Federal Highway Administration, 2520 West 4700 South, Suite 9A, Salt Lake City, Utah 84118, Telephone: (801) 963-0078 ext, 243; or Brent Schvaneveldt; Utah Department of Transportation, Region 3, 658 North 1500 West, Orem, Utah 84057, Telephone: (801) 222-3406.

SUPPLEMENTARY INFORMATION: The FHWA, in cooperation with the Utah Department of Transportation (UDOT), previously issued a Notice of Intent in the Federal Register (February 24, 2000: Volume 65, Number 371, Page 9305) to prepare a supplement to the final environmental impact statement (EIS) for a portion of a U.S. Highway 189 from the I-15 Interchange in Orem on the west to Heber City on the east. A recreational trail known as the Provo/Jordan River Parkway, which is a recognized priority in the current Statewide Comprehensive Outdoor Recreational Plan, will now be included in the analysis for the project. Since portions of the highway have been completed and to avoid confusion with another ongoing project in Orem, the highway termini will be changed from the previous designation on the west to the Utah/Wasatch County line (approximately the intersection of U.S. Highway 189 with State Road 92 at Wildwood) and the intersection of U.S. Highway 189 with U.S. Highway 40 approximately 0.8 km (0.5 mile) south of Heber City on the east. The trail termini will extend from Vivian Park on the west (1.9 km [1.2 miles] west of Wildwood) to the Deer Creek Dam (approximately 8 km [5 miles] east of Wildwood) on the east. The purpose of the project is to improve the safety and traffic carrying capacity of the highway by correcting substandard geometrics and other unsafe conditions and to provide a safe, aesthetically appealing extension of the high priority recreational trail with minimal environmental impact.

The trail will extend from its present termini at Vivian Park through the U.S. Highway 189 /Provo River corridor to the vicinity of the Deer Creek Dam utilizing appropriate combinations of abandoned highway, Heber Creeper Railroad right of way, existing local roads and bridges, water aqueduct right of way, and new alignment. Future extension of the trail is planned for the west side of Deer Creek Reservoir to the Soldier Hollow Olympic Venue in Wasatch Mountain State Park and will be addressed in a new environmental document at a later date.

Comments are being solicited from appropriate Federal, State, and local agencies and from private organizations and citizens who have previously expressed or are known to have interest in this proposal. A public scoping and information meeting and a public hearing will be held during the course of the analysis. Public notice will be given of the time and place of the meetings and hearing. The draft SEIS will be available for public and agency review prior to the public hearing.

To ensure that the full range of issues related to this proposed action are addressed and all significant issues identified, comments and suggestions are invited from all interested parties. Comments and/or questions concerning this proposed action and the EIS should be directed to the FHWA or UDOT at the addresses provided above.

(Catalog of Federal Domestic Assistance Program Number 20.205, Highway Planning and Construction. The regulations implementing Executive Order 12372 regarding intergovernmental consultation on Federal programs and activities apply to this program.
Issued on: December 13, 2001.
William R. Gedris,
Structural/Environmental Engineer, Salt Lake City, Utah.

[FR Doc. 01-31223 Filed 12-18-01; 8:45 am]

BILLING CODE 4910-22-M